DEPARTMENT OF TRANSPORTATION

National Highway Traffic Safety Administration

[NHTSA-2017-0008]

Notice of Request for Applications for Appointment to the National Emergency Medical Services Advisory Council

AGENCY: National Highway Traffic Safety Administration (NHTSA), U.S. Department of Transportation (DOT).

ACTION: Notice of Request for Applicants for Appointment/Reappointment to the National Emergency Medical Services Advisory Council (NEMSAC).

SUMMARY: NHTSA and its partners at the Departments of Health and Human Services (HHS) and Homeland Security (DHS) are soliciting applications for appointment or reappointment to DOT's NEMSAC. The purpose of NEMSAC, a nationally recognized council of emergency medical services representatives and consumers, is to advise and consult with DOT and the Federal Interagency Committee on EMS (FICEMS) on matters relating to emergency medical services (EMS). More information on NEMSAC, including its previous recommendations, its charter, and its current membership is available at www.EMS.gov/NEMSAC.htm.

DATES: Application packages as described below must be received by NHTSA on or before June 16, 2017.

ADDRESSES: If you wish to apply for membership, your application package should be submitted by:

• Email: NEMSAC@dot.gov;

• Fax: (202) 366-7149; or

• Mail: Use only overnight mail such as UPS or FedEx to:

U.S. Department of Transportation, National Highway Traffic Safety Administration, Office of Emergency Medical Services, Attn: Susan McHenry, 1200 New Jersey Avenue SE., NTI-140, Washington, DC 20590.

Any person needing accessibility accommodations should contact Susan McHenry at (202) 366-6540.

FOR FURTHER INFORMATION CONTACT: The Designated Federal Officer, Jon Krohmer, Director, Office of Emergency Medical Services at (202) 366-9966; or Susan McHenry at (202) 366-6540 or via email at NEMSAC@dot.gov.

SUPPLEMENTARY INFORMATION: Notice of this call for applications is given under the Federal Advisory Committee Act, Public Law 92-463, as amended (5 U.S.C. App. 2). The NEMSAC is authorized under Section 31108 of the Moving Ahead with Progress in the 21st Century Act of 2012.

The National Highway Traffic Safety Administration is hereby soliciting nominations for members of the NEMSAC. The Secretary of Transportation, in coordination with HHS and DHS, will appoint 25 Council members on or around July 21, 2017. Members will be selected with a view toward achieving a varied and balanced perspective on emergency medical services. The Council will be composed of non-Federal experts representing various sectors of the EMS community. To the extent reasonable, one member will be appointed to represent the perspectives of each of the following 24 particular sectors of EMS:

• EMS Practitioners

• Volunteer EMS

• Fire-based (career) EMS

• Private (career non-fire) EMS

• Hospital-based EMS

• Tribal EMS

• Air Medical EMS

• Local EMS service director/administrators

• EMS Medical Directors

• Emergency Physicians

• Trauma Surgeons

• Pediatric Emergency Physicians

• State EMS Directors

• State Highway Safety Directors

• EMS Educators

• Public Safety Call-Taker/Dispatcher (911)

• EMS Data Managers

• EMS Quality Improvement

• EMS Researchers

• Emergency Nurses

• Hospital Administration

• Public Health

• Emergency Management

• Consumers (not directly affiliated with an EMS or healthcare organization)

• State or local legislative bodies (e.g. city/county councils; State legislatures)

The Council's broad-based membership will assure that it has sufficient EMS system expertise and geographic and demographic diversity to accurately reflect the EMS community as a whole. Applications for members within the EMS community will be solicited from a wide array of national organizations and the public. These members will be selected for their individual expertise and to assure balanced representation from across the EMS community, but no member will represent a specific organization or association. Membership balance is not static and may change, depending on the work of the Council.

Council members serve for a term of 2 years and may be reappointed for one additional successive term. The Chair and Vice Chair of the Council are elected annually from among the selected members, and the Council is expected to meet approximately three times per year or as necessary in Washington, DC. Members serve in a “representative” capacity on NEMSAC and not as Special Government Employees. Members are unpaid; however, the NHTSA Office of EMS sponsors the associated costs for members to travel to Washington, DC.

Process and Deadline for Submitting New Applications: Individuals must self-nominate and must apply to represent specific sectors of EMS as outlined above. Applicants may apply to represent more than one sector. There is no standard application. Instead, to be considered for the NEMSAC, applicants must submit the following information in a single package:

(1) A cover letter addressed to the Designated Federal Officer, Jon Krohmer, that includes:

a. The applicant's full name, title, home address, phone number, and email address;

b. Under the heading “SECTOR(S) OF EMS” a listing of which sectors of EMS the applicant is applying to represent from the list of 24 above; and

c. An explanation of why the applicant is applying to be a NEMSAC member and how their experience and/or education qualifies them to represent each sector for which they are applying to represent;

(2) A resume or curriculum vitae;

(3) A short biography of the applicant including professional and academic credentials not to exceed 150 words;

(4) Up to four (4) letters of support or recommendation from a company, union, trade association, non-profit organization or individual on letterhead containing a brief description why the applicant should be considered for appointment; and

(5) An affirmative statement that the applicant is not a federally registered lobbyist, and that the applicant understands that if appointed, the applicant will not be allowed to continue to serve as a Council member if the applicant becomes a federally registered lobbyist;

Please do not send company, trade association, or organization brochures or any other information. Should more information be needed, DOT staff will contact the applicant, obtain information from their past affiliations, or obtain information from publicly available sources, such as the Internet.

It is preferred that application packages be emailed to NEMSAC@dot.gov, but they may also be faxed to the attention of Susan McHenry at (202) 366-7149, or mailed to the U.S Department of Transportation, National Highway Traffic Safety Administration, Office of Emergency Medical Services, Attn: Susan McHenry, 1200 New Jersey Avenue SE., NTI-140, Washington, DC 20590. If mailing, please use only overnight mail such as UPS or FedEx. Applications must be received on or before June 16, 2017. Applications selected for appointment to the NEMSAC will be notified by email and by a letter of appointment.

Process and Deadline for Current NEMSAC Members to Apply for Reappointment: The NEMSAC charter stipulates a two-term limit for appointees, thus currently appointed members of NEMSAC in their first terms are eligible to apply for reappointment. Current NEMSAC members in their first term may apply for reappointment by submitting a cover letter addressed to the Designated Federal Officer, Jon Krohmer with an explanation of why the member is seeking reappointment and an updated resume or curriculum vitae. The deadline and methods for submission are the same as above for new applicants.

Authority: 44 U.S.C. Section 3506(c)(2)(A).

Issued in Washington, DC, on April 18. 2017.
Jeff Michael,
Associate Administrator, Research and Program Development.

[FR Doc. 2017-08094 Filed 4-20-17; 8:45 am]

BILLING CODE 4910-59-P